DEPARTMENT OF THE INTERIOR

Bureau of Reclamation

Agency Information Collection Activities; New Information Collection; Comment Request

AGENCY: Bureau of Reclamation, Interior.

ACTION: Notice of a new information collection.

SUMMARY: In accordance with the Paperwork Reduction Act of 1995 (44 U.S.C. 3501 et seq.), this notice announces the following Information Collection Request (ICR) has been forwarded to the Office of Management and Budget (OMB) for review and approval: Yakima Basin Recreation Survey, Washington. The ICR describes the nature of the information collection and its expected cost burden.

DATES: Your written comments must be received on or before July 17, 2006.

ADDRESSES: You may send comments regarding the burden estimate, or any other aspect of the information collection, including suggestions for reducing the burden, to the Desk Officer for the Department of the Interior at the Office of Management and Budget, Office of Information and Regulatory Affairs, via facsimile to (202) 395-6566 or e-mail to OIRA_DOCKET@omb.eop.gov. A copy of your comments should also be directed to the Bureau of Reclamation, Attention: 86-68580, PO Box 25007, Denver, CO 80225-0007. You may request copies of the proposed forms by writing to the above address or by contacting Darrell P. Welch at: (303) 445-2711.

FOR FURTHER INFORMATION CONTACT: For further information contact Darrell P. Welch at: (303) 445-2711.

SUPPLEMENTARY INFORMATION: Title: Yakima Basin Recreation Survey.

Abstract: The Yakima River Basin is located in south central Washington State in the counties of Benton, Franklin, Yakima, and Kittitas. The seven major reservoirs in the Yakima River Basin are Bumping Lake, Clear Lake, Cle Elum, Kachess, Keechelus, Easton, and Rimrock. The five major rivers in the Yakima River Basin are the Yakima, Nachess, Cle Elum, Bumping and Tieton. Reclamation is in the process of preparing a Yakima River Basin Water Storage Feasibility Study and associated Environmental Impact Statement that will address options for supplying additional water storage for the Yakima River Basin. Currently, site-specific recreation-related information is unavailable for the primary reservoirs and rivers. In order to accurately assess the current recreation and recreation-related economic environment within the Yakima River Basin, additional information must be collected from the recreationists who visit the reservoirs and rivers within the basin. Further, the survey information will allow Reclamation to adequately assess the recreation impacts that different options may have on the environment and the local economy.

The required 60-day comment period was initiated by a notice published in the Federal Register on February 16, 2006 (71 FR 8310). No comments were received in response to the 60-day comment period.

Frequency: One time survey.

Respondents: Yakima River Basin reservoir and river recreationists come from the cities of Yakima and Ellensburg, Washington, as well as the smaller communities within the basin. A large number of visitors also come from western Washington, in particular the Puget Sound communities of Seattle and Tacoma. A smaller portion of recreationists within the basin are out-of-state visitors.

Estimated Total Number of Respondents: 3,216.

Estimated Number of Responses per Respondent: 1.0.

Estimated Total Number of Annual Responses: 3,216.

Estimated Total Annual Burden on Respondents: 1,072 hours.

Estimate of Burden for Each Form:

Form | Burden estimate per form (in minutes) | Number of respondents | Annual burden on respondents (in hours)
River Survey | 20 | 1,340 | 447
Reservoir Survey | 20 | 1,876 | 625
Total |  | 3,216 | 1,072

Comments.

Comments are invited on:

(a) Whether the proposed collection of information is necessary for the proper performance of our functions, including whether the information will have practical use;

(b) The accuracy of our burden estimate for the proposed collection of information, including the validity of the methodology and assumptions used;

(c) Ways to enhance the quality, usefulness, and clarity of the information to be collected; and

(d) Ways to minimize the burden of the collection of information on respondents.

An agency may not conduct or sponsor, and a person is not required to respond to a collection of information unless it displays a currently valid OMB control number. Reclamation will display a valid OMB control number on the forms.

OMB has up to 60 days to approve or disapprove this information collection, but may respond after 30 days; therefore, public comment should be submitted to OMB within 30 days in order to assure maximum consideration.

Department of the Interior practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Gerald W. Kelso,
Area Manager, Upper Columbia Area Office, Pacific Northwest Region.

[FR Doc. E6-9452 Filed 6-15-06; 8:45 am]

BILLING CODE 4310-MN-P